ENVIRONMENTAL PROTECTION AGENCY

[EPA-R06-OAR-2007-0524; FRL-8544-9]

Adequacy Status of Submitted State Implementation Plans for Transportation Conformity Purposes: Motor Vehicle Emissions Budgets for the Houston-Galveston-Brazoria and the Dallas-Fort Worth 8-Hour Ozone Nonattainment Areas

AGENCY: Environmental Protection Agency (EPA).

ACTION: Notice of adequacy determination.

SUMMARY: In this notice, EPA is notifying the public that we have found the on-road motor vehicle emissions budgets (MVEB) contained in the revisions to the Houston-Galveston-Brazoria 8-hour ozone reasonable further progress plan and the Dallas-Fort Worth 8-hour ozone attainment demonstration plan adequate for transportation conformity purposes. As a result of our finding, the budgets from the submitted state implementation plan revisions must be used for future conformity determinations in the Houston-Galveston-Brazoria and the Dallas-Fort Worth areas.

DATES: These budgets are effective April 7, 2008.

FOR FURTHER INFORMATION CONTACT: The essential information in this notice will be available at EPA's conformity Web site: http://www.epa.gov/otaq/stateresources/transconf/adequacy.htm. You may also contact Mr. Guy Donaldson, Air Planning Section (6PD-L), U.S. EPA Region 6, 1445 Ross Avenue, Dallas, Texas 75202-2733, telephone (214) 665-7242, E-mail address: Donaldson.Guy@epa.gov.

SUPPLEMENTARY INFORMATION: Throughout this document “we,” “us,” and “our” refers to EPA. The word “budget(s)” refers to the mobile source emissions budget for volatile organic compounds (VOCs) and the mobile source emissions budget for nitrogen oxides (NOX). The word “SIP” in this document refers to the State Implementation Plan revision submitted by the State of Texas in June, 2007, in partial fulfillment of its obligations for the 8-hour ozone National Ambient Air Quality Standard.

In June 2007, we received several SIP revisions from the Texas Commission on Environmental Quality (TCEQ). These revisions included the Reasonable-Further-Progress (RFP) SIP and the Attainment Demonstration SIP for the Dallas-Fort Worth ozone nonattainment area. We also received the Reasonable-Further-Progress SIP for the Houston-Galveston-Brazoria ozone nonattainment area. Each of these submissions revised the motor vehicle emissions budgets (MVEB) in these areas. The MVEB is the amount of emissions allowed in the state implementation plan for on-road motor vehicles; it establishes an emissions ceiling for the regional transportation network.

The Dallas-Fort Worth RFP SIP contains MVEBs for the year 2008. In this SIP, the emissions budget for VOCs is 119.81 tons per day (tpd); the NOX emissions budget is 249.33 tpd. The Dallas-Fort Worth Attainment Demonstration SIP contains MVEBs for the year 2009. In the attainment SIP, the emissions budget for VOCs is 99.09 tpd; the NOX emissions budget is 186.81 tpd.

The Houston-Galveston-Brazoria RFP SIP contains MVEBs for the year 2008. In this SIP, the emissions budget for VOCs is 86.77 tpd; the NOX emissions budget is 186.13 tpd.

On June 28, 2007, the availability of all of these budgets was posted on EPA's Web site for the purpose of soliciting public comments. The comment period closed on July 30, 2007, and we received no comments.

Today's notice is simply an announcement of a finding that we have already made. EPA Region 6 sent a letter to the Texas Commission on Environmental Quality on October 24, 2007, finding that the motor vehicle emissions budgets for the Houston-Galveston-Brazoria 8-county ozone nonattainment area and the Dallas-Fort Worth 9-county ozone nonattainment area are adequate and must be used for transportation conformity determinations.

Transportation conformity is required by Section 176(c) of the Clean Air Act. EPA's conformity rule, 40 CFR part 93, requires that transportation plans, programs and projects conform to SIPs and establishes the criteria and procedures for determining whether or not they do so. Conformity to a SIP means that transportation activities will not produce new air quality violations, worsen existing violations, or delay timely attainment of the National Ambient Air Quality Standards. The criteria by which EPA determines whether a SIP's motor vehicle emission budgets are adequate for conformity purposes are outlined in 40 CFR 93.118(e)(4).

Please note that such an adequacy review is separate from EPA's completeness review, and it should not be used to prejudge EPA's ultimate approval of either of the SIPs. Even if we find a budget adequate, either SIP could later be disapproved.

Authority: 42 U.S.C. 7401 et seq.

Dated: March 5, 2008.
Richard E. Greene,
Regional Administrator, Region 6.

[FR Doc. E8-5791 Filed 3-20-08; 8:45 am]

BILLING CODE 6560-50-P